DEPARTMENT OF THE INTERIOR

National Park Service

Notice of Inventory Completion: New York University College of Dentistry, New York, NY

AGENCY: National Park Service, Interior.

ACTION: Notice.

Notice is here given in accordance with the Native American Graves Protection and Repatriation Act (NAGPRA), 25 U.S.C. 3003, of the completion of an inventory of human remains in the possession of the New York University College of Dentistry, New York City, NY. The human remains were removed from Colfax County, NE.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by New York University College of Dentistry professional staff in consultation with representatives of the Pawnee Nation of Oklahoma.

At an unknown date, human remains representing a minimum of two individuals were removed from a site identified as a Pawnee Burial Site, Schuyler, Colfax County, NE, by an unknown collector. In 1922, the human remains were accessioned by the Department of Physical Anthropology at the Museum of the American Indian, Heye Foundation. In 1956, the human remains were transferred to Dr. Theodore Kazamiroff at the New York University College of Dentistry. No known individuals were identified. No associated funerary objects are present.

Museum of the American Indian records identify the provenience of the human remains as a “Pawnee Burial Site, Schuyler, Nebraska.” The cranial morphology of the human remains confirms that they belong to an individual of Pawnee ancestry. Consultations with the Pawnee Nation of Oklahoma confirmed the identification of the human remains from the burial site as Pawnee.

Schuyler, NE, is located along the Loup River, and corresponds to an area of protohistoric (Lower Loup phase) and historic Pawnee villages that have been identified as Pawnee by the Pawnee Nation and archeologists. It is likely that the human remains date to the Lower Loup phase or historic period. The Loup River area was settled by the Skidi Pawnee, one of four Pawnee bands, by 1700. Skidi Pawnee sites are identified in historic documents dating as early as 1718, and they remained the primary Pawnee band in the area for the next century. By 1857, all four Pawnee bands coalesced along the Loup River after disease, warfare and land cessions resulted in a restriction of Pawnee lands. By 1875, the Pawnee left the Loup River and settled on a tract of land in Oklahoma. Today they are known as the Pawnee Nation of Oklahoma.

Officials of the New York University College of Dentistry have determined that, pursuant to 25 U.S.C. 3001 (9-10), the human remains described above represent the physical remains of two individuals of Native American ancestry. Officials of the New York University College of Dentistry also have determined that, pursuant to 25 U.S.C. 3001 (2), there is a relationship of shared group identity that can be reasonably traced between the Native American human remains and the Pawnee Nation of Oklahoma.

Representatives of any other Indian tribe that believes itself to be culturally affiliated with the human remains should contact Dr. Louis Terracio, New York University College of Dentistry, 345 East 24th St, New York, NY 10010, telephone (212) 998-9917, before June 1, 2009. Repatriation of the human remains to the Pawnee Nation of Oklahoma may proceed after that date if no additional claimants come forward.

The New York University College of Dentistry is responsible for notifying the Pawnee Nation of Oklahoma that this notice has been published.

Dated: April 13, 2009.
Sherry Hutt,
Manager, National NAGPRA Program.

[FR Doc. E9-9986 Filed 4-29-09; 8:45 am]

BILLING CODE 4312-50-S